DEPARTMENT OF EDUCATION

Notice of Proposed Information Collection Requests

AGENCY: Department of Education.

ACTION: Notice of proposed information collection requests.

SUMMARY: The IC Clearance Official, Regulatory Information Management Services, Office of the Chief Information Officer, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by January 4, 2006.

ADDRESSES: Written comments regarding the emergency review should be addressed to the Office of Information and Regulatory Affairs, Attention: Rachel Potter, Desk Officer, Department of Education, Office of Management and Budget; 725 17th Street, NW., Room 10222, New Executive Office Building, Washington, DC 20503 or faxed to (202) 395-6974.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The IC Clearance Official, Regulatory Information Management Services, Office of the Chief Information Officer, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner, (3) is the estimate of burden accurate; (4) how might the Department enhance the quality, utility, and clarity of the information to be collected, and (5) how might the Department minimize the burden of this collection on respondents, including through the use of information technology.

Dated: January 4, 2006.
Angela C. Arrington,
IC Clearance Official, Regulatory Information Management Services, Office of the Chief Information Officer.

Office of Elementary and Secondary Education

Type of Review: New.

Title: Hurricane Relief Program.

Abstract: Formula grant applications are needed to identify those SEAs that are eligible applicants under the Hurricane Relief Program, and to obtain counts by State of students displaced by Hurricanes Katrina and Rita. The counts will be used to make formula payments to the SEAs to enable them to make formula payments to eligible LEAs and certain BIA and non-public schools that are educating displaced students including homeless children and youth.

Additional Information: This request for an emergency clearance is to collect extremely time-critical student data and related information in applications from State educational agencies (SEAs) that have local education agencies (LEAs) and Bureau of Indian Affairs (BIA) schools serving students displaced by Hurricanes Katrina and Rita. LEAs will also collect information from the parents of displaced nonpublic school children. This expedited collection is a direct result of an emergency initiative that Congress passed on December 22 and its purpose is to provide immediate aid for the costs related to the education of these displaced students for the 2005-2006 school year, including homeless children and youth. The data collected will be used by ED to make four Emergency Impact Aid formula grant payments to applicant SEAs based on quarterly student counts reported by LEAs. The SEAs will make four formula grant payments to applicant LEAs and BIA schools based on the quarterly student counts that they report to the SEAs, and LEAs in turn will be responsible for making payments to accounts for nonpublic school children. In addition, the first quarterly student count will be used to determine eligibility and payments for displaced homeless children and youth. Due to the urgency of distributing this application form and collecting the required information from interested participants, we are requesting an OMB emergency clearance of the Emergency Impact Aid application.

Frequency: Quarterly.

Affected Public: State, local, or tribal gov't, SEAs or LEAs; individuals or household.

Reporting and Recordkeeping Hour Burden: Responses—13,200. Burden Hours—28,100.

Requests for copies of the proposed information collection request may be accessed from http://edicsweb.ed.gov, by selecting the “Browse Pending Collections” link and by clicking on link number 2959. When you access the information collection, click on “Download Attachments” to view. Written requests for information should be addressed to U.S. Department of Education, 400 Maryland Avenue, SW., Potomac Center, 9th Floor, Washington, DC 20202-4700. Requests may also be electronically mailed to the Internet address IC DocketMgr@ed.gov or faxed to 202-245-6623. Please specify the complete title of the information collection when making your request.

Comments regarding burden and/or the collection activity requirements should be electronically mailed to IC DocketMgr@ed.gov. Individuals who use a telecommunications device for the deaf (TDD) may call the Federal Information Relay Service (FIRS) at 1-800-877-8339.

[FR Doc. E6-191 Filed 1-11-06; 8:45 am]

BILLING CODE 4000-01-P